DEPARTMENT OF HEALTH AND HUMAN SERVICES

Centers for Medicare & Medicaid Services

[CMS-1566-CN]

Medicare Program; Meeting of the Practicing Physicians Advisory Council, March 8, 2010; Correction

AGENCY: Centers for Medicare & Medicaid Services (CMS), HHS.

ACTION: Correction of notice.

SUMMARY: This document corrects technical errors that appeared in the meeting notice published in the Federal Register on Friday, January 22, 2010 entitled “Medicare Program; Meeting of the Practicing Physicians Advisory Council, March 8, 2010.”

FOR FURTHER INFORMATION CONTACT: Kelly Buchanan, DFO, (410) 786-6132, or e-mail PPAC_hhs@cms.hhs.gov. News media representatives must contact the CMS Press Office, (202) 690-6145. Please refer to the CMS Advisory Committees' Information Line (1-877-449-5659 toll free), (410) 786-9379 local) or the Internet at http://www.cms.hhs.gov/home/regsguidance.asp for additional information and updates on committee activities.

SUPPLEMENTARY INFORMATION:

I. Background

In FR Doc. 2010-1333 of January 22, 2010 (75 FR 3743), there were a number of technical errors that are identified and corrected in the “Correction of Errors” section below.

II. Summary of Errors

In section III. of the notice, “Meeting Registration and Security Information”, we inadvertently included security information for the Hubert H. Humphrey building instead of the CMS central office. Therefore, we are removing section III. in its entirety and replacing the language as noted in section III. of this notice.

III. Correction of Errors

In FR Doc. 2010-1333 of January 22, 2010 (75 FR 3743), replace section III. in its entirety with the following language:

III. Meeting Registration and Security Information

The meeting is open to the public, but attendance is limited to the space available. Persons wishing to attend this meeting must register by contacting the DFO at the address listed in the ADDRESSES section of this notice or by telephone at the number listed in the FOR FURTHER INFORMATION CONTACT section of this notice by the date specified in the DATES section of this notice.

Individuals requiring sign language interpretation or other special accommodations must contact the DFO via the contact information specified in the FOR FURTHER INFORMATION CONTACT section of this notice by the date listed in the DATES section of this notice.

This meeting will be held in a Federal government building; therefore, Federal security measures are applicable. We recommend that confirmed registrants arrive reasonably early, but no earlier than 45 minutes prior to the start of the meeting, to allow additional time to clear security. Security measures include the following:

• Presentation of government-issued photographic identification to the Federal Protective Service or Guard Service personnel.

• Inspection of vehicle's interior and exterior (this includes engine and trunk inspection) at the entrance to the grounds. Parking permits and instructions will be issued after the vehicle inspection.

• Inspection, via metal detector or other applicable means of all persons brought entering the building. We note that all items brought into CMS, whether personal or for the purpose of presentation or to support a presentation, are subject to inspection. We cannot assume responsibility for coordinating the receipt, transfer, transport, storage, set-up, safety, or timely arrival of any personal belongings or items used for presentation or to support a presentation.

Note: Individuals who are not registered in advance will not be permitted to enter the building and will be unable to attend the meeting. The public may not enter the building earlier than 45 minutes prior to the convening of the meeting.

All visitors must be escorted in areas other than the lower and first floor levels in the Central Building.

Authority: (Section 1868 of the Social Security Act (42 U.S.C. 1395ee) and section 10(a) of Pub. L. 92-463 (5 U.S.C. App. 2, section 10(a)).)

Dated: February 18, 2010.
Charlene Frizzera,
Acting Administrator, Centers for Medicare & Medicaid Services.

[FR Doc. 2010-3693 Filed 2-19-10; 4:15 pm]

BILLING CODE 4120-01-P